DEPARTMENT OF COMMERCE

International Trade Administration

[C-401-401]

Certain Carbon Steel Products from Sweden: Rescission of Countervailing Duty Administrative Review

AGENCY: Import Administration, International Trade Administration, Department of Commerce.

ACTION: Notice of rescission of countervailing duty administrative review.

SUMMARY: On December 3, 1999, in response to a request from respondent, the Department of Commerce initiated an administrative review of the countervailing duty order on carbon steel products from Sweden. The review covers the period January 1, 1998 through December 31, 1998. In accordance with 19 CFR 351.213(d)(1), the Department is now rescinding this review because SSAB Svenskt Stal AB (SSAB) (respondent) has withdrawn its request for review.

EFFECTIVE DATE: February 21, 2001.

FOR FURTHER INFORMATION CONTACT: Tipten Troidl or Gayle Longest, Office of AD/CVD Enforcement VI, Import Administration, U.S. Department of Commerce, Room 4012, 14th Street and Constitution Avenue, NW., Washington, DC 20230; telephone (202) 482-2786.

SUPPLEMENTARY INFORMATION: On October 29, 1999, the Department received a request for an administrative review of the countervailing duty order on certain steel products from Sweden from SSAB, for the period January 1, 1998 through December 31, 1998. On December 3, 1999, the Department published in the Federal Register (64 FR 67846) a notice of “Initiation of Countervailing Duty Administrative Review” initiating the administrative review. On September 7, 2000, the Department published in the Federal Register (65 FR 54229) a notice of “Preliminary Results of Countervailing Duty Administrative Review and Extension of Time Limit for Final Results of Countervailing Duty Administrative Review.” On November 2, 2000, the International Trade Commission (ITC) made a negative determination in the sunset review of Certain Steel Products from Sweden; thus the order was to be revoked by the Department of Commerce effective January 1, 2000. On December 15, 2000, the Department published in the Federal Register (65 FR 78467) a notice of “Revocation of Antidumping and Countervailing Duty Orders” which revoked the countervailing duty order on certain carbon steel products from Sweden, effective January 1, 2000.

On January 17, 2001, respondent withdrew its request for review because of the revocation of the order. The applicable regulation, 19 CFR 351.213(d)(1), states that if a party that requested an administrative review withdraws the request within 90 days of the date of publication of the notice of initiation of the requested review, the Secretary will rescind the review. Although the request for recession was made after the 90 day deadline, in accordance with 19 CFR 351.213(d)(1), the Secretary may extend this time limit if the Secretary decides it is reasonable to do so. Due to the fact that SSAB was the only party to request an administrative review, we find it reasonable to accept the party's withdrawal of its request for review. Moreover, we have received no other submissions regarding SSAB's request for withdrawal of the administrative review. Therefore, we are rescinding this review of the countervailing duty order on certain carbon steel products from Sweden for SSAB covering the period January 1, 1998, through December 31, 1998.

This notice is issued and published in accordance with 19 CFR 351.213(d)(4) and 777(i) of the Act.

Dated: February 13, 2001.
Holly A. Kuga,
Acting Deputy Assistant Secretary for Import Administration.

[FR Doc. 01-4289 Filed 2-20-01; 8:45 am]

BILLING CODE 3510-DS-P